DEPARTMENT OF COMMERCE

International Trade Administration

[A-122-847]

Notice of Antidumping Duty Order: Hard Red Spring Wheat From Canada

AGENCY: Import Administration, International Trade Administration, Department of Commerce.

ACTION: Notice of antidumping duty order.

EFFECTIVE DATE: October 23, 2003.

FOR FURTHER INFORMATION CONTACT: Julie Santoboni or Cole Kyle, Import Administration, International Trade Administration, U.S. Department of Commerce, 14th Street and Constitution Avenue, NW., Washington, DC 20230; telephone: (202) 482-4194 or (202) 482-1503, respectively.

Scope of Order

For purposes of this order, the products covered are all varieties of hard red spring (“HRS”) wheat from Canada. This includes, but is not limited to, varieties commonly referred to as Canada Western Red Spring, Canada Western Extra Strong, and Canada Prairie Spring Red. The merchandise subject to this investigation is currently classifiable under the following Harmonized Tariff Schedule of the United States (“HTSUS”) subheadings: 1001.90.10.00, 1001.90.20.05, 1001.90.20.11, 1001.90.20.12, 1001.90.20.13, 1001.90.20.14, 1001.90.20.16, 1001.90.20.19, 1001.90.20.21, 1001.90.20.22, 1001.90.20.23, 1001.90.20.24, 1001.90.20.26, 1001.90.20.29, 1001.90.20.35, and 1001.90.20.96. This investigation does not cover imports of wheat that enter under the subheadings 1001.90.10.00 and 1001.90.20.96 that are not classifiable as hard red spring wheat. Although the HTSUS subheadings are provided for convenience and customs purposes, our written description of the scope of this proceeding is dispositive.

Antidumping Duty Order

In accordance with section 735(a) of the Tariff Act of 1930, as amended (“the Act”), the Department of Commerce (“the Department”) published its final determination that HRS wheat from Canada is being sold in the United States at less than fair value. See Notice of Final Determinations of Sales at Less Than Fair Value: Certain Durum and Hard Red Spring Wheat from Canada, 68 FR 52741 (September 5, 2003). Subsequently, the Department amended its final determination of the antidumping duty investigation of HRS wheat from Canada to correct certain ministerial errors in the final margin calculation. See Notice of Amended Final Determination of Sales at Less Than Fair Value: Hard Red Spring Wheat from Canada, 68 FR 57666 (October 6, 2003). On October 16, 2003, the International Trade Commission notified the Department of its final determination pursuant to section 735(b)(1)(A)(i) of the Act that an industry in the United States is materially injured by reason of less-than-fair-value imports of subject merchandise from Canada.

Therefore, in accordance with section 736(a)(1) of the Act, the Department will direct U.S. Customs and Border Protection (“CBP”) to assess, upon further advice by the Department, antidumping duties equal to the amount by which the normal value of the subject merchandise exceeds the export price of the subject merchandise for all relevant entries of HRS wheat from Canada. These antidumping duties will be assessed on (1) all unliquidated entries of the subject merchandise that are entered, or withdrawn from warehouse, for consumption on or after May 8, 2003, the date of publication of the Department's preliminary determination in the Federal Register¹ and before October 12, 2003, the date on which the Department is required pursuant to section 733(d)(3) of the Act to terminate the suspension of liquidation; and (2) on all subject merchandise entered, or withdrawn from warehouse, for consumption on or after the date of publication of the ITC's notice of final determination in the Federal Register.

¹ Notice of Preliminary Determinations of Sales at Less Than Fair Value: Certain Durum Wheat and Hard Red Spring Wheat From Canada, 68 FR 24707 (May 8, 2003).

On or after the date of publication of the ITC's notice of final determination in the Federal Register, CBP officers must require, at the same time as importers would normally deposit estimated duties, a cash deposit equal to the estimated weighted-average antidumping duty margins as noted below. The “All Others” rate applies to all exporters of subject merchandise not specifically listed. The weighted-average dumping margins are as follows:

Exporter/manufacturer | Amended weighted-average margin percentage
Canadian Wheat Board | 8.86
All Others | 8.86

This notice constitutes the antidumping duty order with respect to HRS wheat from Canada, pursuant to section 736(a) of the Act. Interested parties may contact the Central Records Unit, Room B-099 of the main Commerce building, for copies of an updated list of antidumping duty orders currently in effect.

This order is published in accordance with section 736(a) of the Act and 19 CFR 351.211.

Dated: October 17, 2003.
James J. Jochum,
Assistant Secretary for Import Administration.

[FR Doc. 03-26796 Filed 10-22-03; 8:45 am]

BILLING CODE 3510-DS-P